FEDERAL ELECTION COMMISSION

Sunshine Act Notices

* * * * *

Date and Time: Thursday, October 28, 2004 at 10 a.m.

Place: 999 E Street, NW., Washington, DC (Ninth Floor).

Status: This meeting will be open to the public.

The following item was added to the agenda: Final rules on Coordinated and Independent Expenditures by Party Committees (11 CFR 109.35).

Date and Time: Thursday, November 4, 2004 at 10 a.m.

Place: 999 E Street, NW., Washington, DC (Ninth Floor).

Status: This meeting will be open to the public.

Items to be Discussed: Correction and Approval of Minutes. Draft Advisory Opinion 2004-39: Washington State Republican Party by Chris Vance, Chairman. Routine Administrative Matters.

* * * * *

Date and Time: Tuesday, November 9, 2004 at 10 a.m.

Place: 999 E Street, NW., Washington, DC (Ninth Floor).

Status: This meeting will be closed to the public.

Items to be Discussed: Compliance matters pursuant to 2 U.S.C. 437g. Audits conducted pursuant to 2 U.S.C. 437g, 438(b), and title 26, U.S.C. Matters concerning participation in civil actions or proceedings or arbitration. Internal personnel rules and procedures or matters affecting a particular employee.

FOR FURTHER INFORMATION CONTACT: Mr. Robert Biersack, Acting Press Officer, telephone: (202) 694-1220.

Mary W. Dove,
Secretary of the Commission.

[FR Doc. 04-24469 Filed 10-28-04; 4:14 pm]

BILLING CODE 6715-01-M